DEPARTMENT OF HEALTH AND HUMAN SERVICES

Administration for Children and Families

Submission for OMB Review; Comment Request

Title: Maternal and Infant Home Visiting Program Evaluation (MIHOPE) Check-in Project.

OMB No.: 0970-0402.

Description: The Administration for Children and Families (ACF), in partnership with the Health Resources and Services Administration (HRSA), both of the U.S. Department of Health and Human Services (HHS), is proposing a data collection activity as part of the Maternal and Infant Home Visiting Program Evaluation (MIHOPE) Check-in project. The purpose of the MIHOPE Check-in project is to maintain up-to-date contact information for families that participated in MIHOPE (the national evaluation of the Maternal, Infant, and Early Childhood Home Visiting program), so it is possible to conduct future follow-up studies and assess the potential long-term impact of the program. In addition to contact information, the MIHOPE Check-in project will also administer a brief survey on child and family outcomes.

Respondents: Adult participants in MIHOPE and adult primary caregivers of children who participated in MIHOPE.

Annual Burden Estimates
Instrument | Total number of respondents | Annualized number of respondents | Number of responses per respondent | Average burden hours per response | Total annual burden hours
Child and Family Outcome Survey and Updating Contact Information | 4,300 | 1433 | 3 | .50 | 2,150

Estimated Total Annual Burden Hours: 2150.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.E0P.GOV, Attn: Desk Officer for the Administration for Children and Families.

Robert Sargis,
ACF Reports Clearance Officer.

[FR Doc. 2015-14034 Filed 6-8-15; 8:45 am]

BILLING CODE 4184-22-P